DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Black Lung Clinic Program Guidelines (42 CFR 55a) (OMB No. 0915-0081) Extension

The purpose of the Black Lung Clinics Program (BLCP) is to stimulate and encourage local public and private agencies to improve the health status of coal workers and to increase coordination with other programs to assist the coal worker population. The goal of the BLCP is to provide services to minimize the effects of respiratory and pulmonary impairments of coal miners. Grantees provide specific diagnostic and treatment procedures required in the management of problems associated with black lung disease which improve the functional status, i.e., “quality of life”, of the miner and reduces economic costs associated with morbidity and mortality arising from pulmonary diseases.

This request is for approval of the application requirements which are included in the program guidelines and the program regulation (42 CFR 55a.201 and 55a.301). Grantees must submit applications annually for continued grant support. The regulations outline the requirements for grant applications for States (55a.201) and entities other than States (55a.301). The program guidelines further elaborate on these requirements.

The grant application form is cleared under another OMB approval (OMB No. 0920-0428). The burden for completing the application is not reflected in the Black Lung clearance request because the burden is reported in the clearance of the application form. The current request for clearance includes one hour of burden, to keep the clearance of the program-specific application requirements on the OMB database.

Written comments and recommendations concerning the proposed information collection should be sent within 30 days of this notice to: Wendy A. Taylor, Human Resources and Housing Branch, Office of Management and Budget, New Executive Office Building, Room 10235, Washington, DC 20503.

Dated: May 16, 2000.
Jane Harrison,
Director, Division of Policy Review and Coordination.

[FR Doc. 00-12751 Filed 5-19-00; 8:45 am]

BILLING CODE 4160-15-P